DEPARTMENT OF HEALTH AND HUMAN SERVICES

Administration for Children and Families

Submission for Office of Management and Budget Review; Voluntary Agencies Matching Grant Program Data Reporting (New Collection)

AGENCY: Office of Refugee Resettlement, Administration for Children and Families, U.S. Department of Health and Human Services.

ACTION: Request for public comments.

SUMMARY: The Office of Refugee Resettlement (ORR), Administration for Children and Families (ACF), U.S. Department of Health and Human Services, is proposing to collect data from grantee agencies participating in the Voluntary Agencies Matching Grant Program. Client data collected will include enrollment information, demographics, and program outcomes.

DATES: Comments due within 30 days of publication. Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: This Matching Grant Program data collection is designed to satisfy the statutory requirements of the Immigration and Nationality Act (INA). Section 412(a)(3) of INA (8 U.S.C. 1522(a)(3)) requires that the Director of ORR make a periodic assessment of the needs of refugees for assistance and services and the resources available to meet those needs. In addition, section 412(a)(7) of the INA (8 U.S.C. 1522(a)(7)) requires ORR to develop a system to monitor the assistance provided under the Refugee Act that includes evaluation of the effectiveness of the program and data collection on the services provided and the results achieved. ORR proposes collecting both case-level and client-level data elements at multiple points in time, which will allow the ORR Director to better understand client demographics, services utilized, and the outcomes achieved by clients enrolled in the Matching Grant Program. Data elements include biographical information, progress made toward achieving self-sufficiency, and employment status. The data collected will inform evidence-based policy making and program design.

Respondents: National resettlement agencies participating in the Matching Grant Program.

Annual Burden Estimates
Instrument | Total number of respondents | Total number of responses per respondent (3 years) | Average burden hours per response | Total burden hours (3 years) | Annual burden hours
Voluntary Agencies Matching Grant Program Data Reporting—Data System Updates | 10 | 1 | 60 | 600 | 200
Voluntary Agencies Matching Grant Program Data Reporting—Monthly Uploads | 10 | 36 | 16 | 5,760 | 1,920
Total estimated annual burden |  |  |  |  | 2,120

Authority: 8 U.S.C. 412(a)(3) and 412(a)(7).

Mary B. Jones,
ACF/OPRE Certifying Officer.

[FR Doc. 2023-25352 Filed 11-15-23; 8:45 am]

BILLING CODE 4184-89-P